FEDERAL ELECTION COMMISSION

Sunshine Act Meetings

AGENCY: Federal Election Commission.

DATE & TIME: Thursday, January 15, 2015 At 10:00 a.m.

PLACE: 999 E Street NW., Washington, DC (Ninth Floor).

STATUS: This meeting will be open to the public.

ITEMS TO BE DISCUSSED:

Correction and Approval of Minutes for December 11, 2014

Correction and Approval of Minutes for December 17, 2014

Welcome and Opening Remarks by Chair Ann M. Ravel

2015 Meeting Dates (July-December)

Draft Advisory Opinion 2014-19: ActBlue

Draft Advisory Opinion 2014-20: Make Your Laws PAC, Inc.

Management and Administrative Matters

Individuals who plan to attend and require special assistance, such as sign language interpretation or other reasonable accommodations, should contact Shawn Woodhead Werth, Secretary and Clerk, at (202) 694-1040, at least 72 hours prior to the meeting date.

PERSON TO CONTACT FOR INFORMATION: Judith Ingram, Press Officer, Telephone: (202) 694-1220.

Shelley E. Garr,
Deputy Secretary of the Commission.

[FR Doc. 2015-00367 Filed 1-8-15; 4:15 pm]

BILLING CODE 6715-01-P